DEPARTMENT OF HOUSING AND URBAN DEVELOPMENT

[Docket No. FR-5237-N-01]

Notice of HUD's Policy on Quality Assurance Review (QAR) of Electronic Application Submission Difficulties

AGENCY: Office of the Secretary, HUD.

ACTION: Notice for HUD's procedure on quality control review of electronic application submission difficulties.

SUMMARY: Since 2005, HUD has required that applicants for HUD's discretionary funding submit their applications electronically through Grants.gov, unless the applicant previously received a waiver of this requirement. Since July 2, 2008, however, applicants for HUD assistance have indicated that they have encountered technical difficulties in their electronic application submissions. Today's notice announces that HUD is taking action to respond to these concerns and is conducting a Quality Assurance Review (QAR) to identify applicants that correctly followed all electronic application submission instructions, including registration for electronic submission, but were unable to submit an application because of technical problems related to the use of the Adobe Acrobat forms and Grants.gov error messages.

DATES: Applicants that had difficulties submitting an electronic application for assistance in response to a notice of funding availability (NOFA), for which the deadline date has passed, may submit a request for QAR by September 5, 2008. Applicants having difficulties submitting an electronic application for assistance, in response to a NOFA for which the deadline date has not passed, may submit a request for QAR, beginning at 12:01 a.m. eastern time on the day following the deadline date, and must do so by 12:01 a.m. 15 days later. Requests for QAR must be submitted by e-mail to the appropriate program contact listed in the appendix to this notice to facilitate timely receipt.

FOR FURTHER INFORMATION CONTACT: For further information about each funded program, or to submit your QAR appeal, please contact the individual listed in the appendix to this notice. Appeals must be submitted by e-mail. When submitting the appeal, please place in the subject line the program name, applicant name, and any Grants.gov Call-Center ticket number(s).

SUPPLEMENTARY INFORMATION: Since 2005, HUD has required that applicants for HUD's discretionary funding submit their applications electronically through Grants.gov, unless the applicant previously received a waiver of the requirement. Since January 2008, HUD has published a number of documents that provided instructions to meet the requirement, including HUD's Early Registration Notice, published on March 10, 2008 (73 FR 12751); HUD's Notice of FY2008 Funding Availability, Policy Requirements and General Section to HUD's FY2008 Notices of Funding Availability (NOFAs) for HUD's Discretionary Programs (General Section), published on March 19, 2008 (73 FR 14882); and the Introduction to the SuperNOFA published on May 12, 2008 (73 FR 27032) (collectively referred to as “electronic submission instructions”). Since July 2, 2008, however, applicants for HUD assistance have indicated that they have encountered technical difficulties in their electronic application submissions. Today's notice announces that HUD is taking action to respond to these concerns and is conducting a QAR to identify applicants that correctly followed all of HUD's electronic submission instructions, including registration for electronic submission, but were unable to submit an application because of technical problems related to the use of the Adobe Acrobat forms and Grants.gov error messages. Today's notice also provides HUD's QAR procedures, as well as outlines the application submission procedures an applicant must follow if HUD determines that the applicant complied with all electronic submission instructions but was unable to submit an application because of technical difficulties. If HUD makes this determination, the applicant will be contacted by HUD and invited to resubmit an application. Applicants planning to apply for assistance for which the deadline date remains open are encouraged to apply early, when the Grants.gov help desk is open, or when HUD staff and program offices are available to help overcome any electronic submission issues. Applicants are also reminded that validation can take 24 to 48 hours to complete and that time should be allotted for that process to occur. In addition, applicants using the facsimile solution to submit portions of their applications must use the form HUD-96011, Transmittal Cover Sheet, on each facsimile submitted. If a facsimile transmission fails, each attempt to fax the information must contain the HUD-96011 cover sheet.

This QAR procedure is in effect for all funding opportunities announced by HUD, except for the Continuum of Care program, for which the deadline date was July 2, 2008, or later. Specifically, this excludes from the QAR those applicants submitting electronic applications in response to HUD's HOPE VI Revitalization Program NOFA published on March 26, 2008 (73 FR 16134) and HUD's Rural Housing and Economic Development NOFA published on April 28, 2008 (73 FR 23051). HUD is making this procedure available to applicants experiencing difficulty submitting an application electronically in response to NOFAs that HUD will publish in the Federal Register until the end of this fiscal year. If HUD determines that an applicant met HUD's electronic submission instructions, but was unable to submit its application because of unanticipated technical difficulties, HUD will contact the applicant and invite the applicant to resubmit the application. The following describes HUD's procedures with respect to 2008 applications covered by this QAR.

Policy and Procedures on Quality Assurance Review of Unsuccessful Electronic Applications

HUD's QAR will focus on those electronic application submissions where HUD's records and those of Grants.gov document that the applicant followed all of the electronic submission instructions published in the Federal Register.

HUD's records and those of Grants.gov indicate that, of the group of applicants that were unable to submit an application electronically through Grants.gov, some were unable to do so because they failed to register for electronic application submission or failed to allow sufficient time to complete the registration process. As detailed in HUD's Federal Register publications, which provide instructions for submitting an application electronically, the registration process required applicants to obtain a Dun and Bradstreet Universal Data (DUNS) number (the DUNS number is a governmentwide and regulatory requirement for all grant applications), register with the Federal Central Contractor Registration, obtain and register credentials from a credential provider for E-Authentication, and, then, have the eBusiness Point of Contact grant authority to submit on behalf of the applicant organization. As HUD has explained in its electronic submission instructions, this registration process is necessary to ensure that the electronically submitted application is that of the applicant, and that the individual or organization that submitted the application is authorized to submit it on behalf of the applicant.¹ HUD has also advised applicants to allow at least 2 weeks to 4 weeks to complete the registration process. Applicants that failed to complete the registration process will not be considered for review.

¹ In addition to the General Section to HUD's 2008 NOFAs and Early Registration Notice, HUD's Internet Web broadcasts discussed the electronic application submission procedures.

Similarly, if HUD's records and those of Grants.gov reflect that applicants were unable to submit an electronic application because of the following applicant errors, the applicant will not be considered under the QAR:

• The applicant typed in a wrong DUNS number;

• The applicant provided a password and ID that were not associated to the DUNS number used in the application;

• The applicant used a password and ID that were not authorized for submission by submitting entity's eBusiness Point of Contact.

These aforesaid applicant submission problems will not be reviewed under the QAR, because it is HUD's position that it is the applicant's responsibility to manage its passwords, IDs, and DUNS numbers, and to ensure that the authorization process is accurately completed.

HUD's quality assurance review for application submission will focus on circumstances where an applicant met the electronic application instructions, but was unable to submit an application because of unanticipated technical problems due to use of the Adobe Acrobat forms package and/or error messages emanating from the Grants.gov system. In these cases, HUD will hold the applicant harmless and permit the applicant to resubmit the application.

Examples of unanticipated technical difficulties that may have resulted in an applicant's failure to submit an electronic application include:

• Grants.gov system records, Call Center records, or e-mail records from the applicant to Support@Grants.gov or to HUD staff demonstrate that the applicant attempted submission in accordance with HUD instructions with time allowed for the validation process to occur prior to the deadline date, but the applicant was unable to successfully submit its application prior to the deadline due to difficulties uploading its application or due to error messages by the Grants.gov system. HUD acknowledges that numerous attempts to overcome the “broken pipe” and other error messages emanating from Grants.gov can result in confusion on the part of the applicant and while initial attempts to submit allowed time for validation to occur as documented by calls or e-mails to the Grants.gov help desk, the Grants.gov help desk did not provide guidance to resolve the applicant's submission issues;

• The records demonstrate the Grants.gov Call Center's help desk advised the applicant to leave the application processing for a period of time longer than 1 hour; or advised the applicant that the Call Center representative was submitting a research ticket to get further assistance for the applicant, even though the Call Center could not provide a response to the research ticket prior to the deadline date. In such cases, where the applicant fully followed the directions provided in HUD's instructions for registration and submission, and due to processing errors or lack of accurate or timely assistance on the part of Grants.gov, the applicant was unable to have the application successfully received and validated by Grants.gov by the deadline date and time; or

• Other unique situations brought to HUD's attention that may lead HUD to conclude that an applicant's failure to submit was based on misleading technical advice or other such technology-related problems.

As noted in today's Federal Register notice, HUD will base its review on its records; those of Grants.gov, including records from the Grants.gov Call Center; and records submitted by the applicant. HUD's review will be completed when HUD believes that the information provided it by the applicant and, as appropriate Grants.gov, contains sufficient information to determine whether an applicant's failure to submit was because of problems with technology or a failure on the part of the applicant to follow HUD's directions.

Applicants that believe they meet the conditions described in this notice may contact the individuals identified in the appendix to request that HUD review its application submission to determine whether the applicant is eligible to resubmit the application. Applicants seeking to benefit from the QAR must provide HUD with the:

1. Applicant's DUNS number;

2. Authorized Organization Representative's (AOR) ID and password;

3. Catalog of Federal Domestic Assistance (CFDA) number and name of the program for which the applicant is seeking funding;

4. Grants.gov Help Desk Ticket Number;

5. Statement of the problem including dates and times, with whom the applicant spoke, and advice provided, if available;

6. Copies of any error messages received from Grants.gov or responses from the help desk received from the customer service representative or by e-mail;

7. Application submission tracking number(s) received from Grants.gov, if applicable, and date and approximate times of transmission upload attempts; and

8. Applicant contact information, including office and cell phone as well as e-mail information.

Applicants may submit this information by e-mail message to the appropriate program contact listed in the appendix. In the “subject” line of the e-mail message include the program name, the applicant name, and any Grants.gov ticket numbers.

Failure to provide the information listed in items 1, 2, and 3 will result in an applicant being ineligible for the quality assurance review procedures outlined in this notice. Applicants that believe they meet the requirements described in today's notice should provide this information to the appropriate program office contact listed in the appendix to today's notice by the deadlines established in the Dates section of today's notice. Applicants that have already provided this information to HUD do not need to resubmit the information. HUD will not review requests for QAR if it has already conducted a review and determined that the applicant did not follow HUD's electronic submission instructions.

Procedures for Submitting Applications

Upon the conclusion of HUD's review, applicants will be notified of HUD's determination through means that provide for confirmation that the applicant has received notification. If HUD determines that the applicant correctly followed its electronic application submission instructions and advice from the Grants.gov help desk but was unable to submit an application because of technical problems, the applicant will be contacted and provided assistance in electronically resubmitting its application. It is HUD's hope that with one-on-one assistance, all applicants will be able to successfully submit an electronic application.

If electronic application submission cannot be accomplished, applicants will be requested to submit their applications on a CD-ROM, with a hard copy, via overnight delivery (United States Postal Service, Federal Express, or UPS) to the applicable addressee(s) listed in the appendix to this notice. HUD will provide e-mail notification to the applicant confirming the need to submit a CD-ROM and hard copy of the application. Applications must be received by HUD within 4 business days after the date of HUD's e-mail notification. Should discrepancies be found between the CD-ROM and the hard copy, HUD will use the application on the CD-ROM as the official submission and incorporate it into HUD's official system of records. Applicants may not submit applications using overnight delivery, unless prior approval has been received from HUD. Hand deliveries will not be accepted.

Dated: August 13, 2008.
Roy A. Bernardi,
Deputy Secretary.

Appendix

Quality Assurance Review Request Contact List

Program name | Program contact | e-Mail address | Address
Community Development Technical Assistance | Mark A. Horwath | Mark.A.Horwath@hud.gov | U.S. Department of Housing and Urban Development, Room 7218, 451 7th Street, SW., Washington, DC 20410.
Community Development Block Grant for Indian Tribes and Alaskan Native Villages | Roberta Youmans | Roberta.L.Youmans@hud.gov | U.S. Department of Housing and Urban Development, Room 5156, 451 7th Street, SW., Washington, DC 20410.
Historically Black Colleges and Universities | Susan Brunson | Susan.S.Brunson@hud.gov | U.S. Department of Housing and Urban Development, Room 8106, 451 7th Street, SW., Washington, DC 20410.
Hispanic Serving Institutions Assisting Communities | Susan Brunson | Susan.S.Brunson@hud.gov | U.S. Department of Housing and Urban Development, Room 8106, 451 7th Street, SW., Washington, DC 20410.
Alaskan Native/Native Hawaiian Institutions Assisting Communities | Susan Brunson | Susan.S.Brunson@hud.gov | U.S. Department of Housing and Urban Development, Room 8106, 451 7th Street, SW., Washington, DC 20410.
Tribal Colleges and Universities | Susan Brunson | Susan.S.Brunson@hud.gov | U.S. Department of Housing and Urban Development, Room 8106, 451 7th Street, SW., Washington, DC 20410.
Fair Housing Initiatives Program | Denise L. Brooks | Denise.L.Brooks@hud.gov | U.S. Department of Housing and Urban Development, Room 5222, 451 7th Street, SW., Washington, DC 20410.
Housing Counseling Program | Brian N. Siebenlist | Brian.N.Siebenlist@hud.gov | U.S. Department of Housing and Urban Development, Room 9274, 451 7th Street, SW., Washington, DC 20410.
Housing Counseling Training | Brian N. Siebenlist | Brian.N.Siebenlist@hud.gov | U.S. Department of Housing and Urban Development, Room 9274, 451 7th Street, SW., Washington, DC 20410.
Healthy Homes Demonstration Program | Warren Friedman | Warren.Friedman@hud.gov | U.S. Department of Housing and Urban Development, Room 8236, 451 7th Street, SW., Washington, DC 20410.
Lead Outreach Grant Program | Warren Friedman | Warren.Friedman@hud.gov | U.S. Department of Housing and Urban Development, Room 8236, 451 7th Street, SW., Washington, DC 20410.
Lead Technical Studies | Warren Friedman | Warren.Friedman@hud.gov | U.S. Department of Housing and Urban Development, Room 8236, 451 7th Street, SW., Washington, DC 20410.
Healthy Homes Technical Studies | Warren Friedman | Warren.Friedman@hud.gov | U.S. Department of Housing and Urban Development, Room 8236, 451 7th Street, SW., Washington, DC 20410.
Lead Hazard Control Program | Warren Friedman | Warren.Friedman@hud.gov | U.S. Department of Housing and Urban Development, Room 8236, 451 7th Street, SW., Washington, DC 20410.
Lead Hazard Reduction Demonstration | Warren Friedman | Warren.Friedman@hud.gov | U.S. Department of Housing and Urban Development, Room 8236, 451 7th Street, SW., Washington, DC 20410.
Operation Lead Elimination Action Program (LEAP) | Warren Friedman | Warren.Friedman@hud.gov | U.S. Department of Housing and Urban Development, Room 8236, 451 7th Street, SW., Washington, DC 20410.
Housing Choice Voucher Family Self-Sufficiency | James D. Reeves | James.D.Reeves@hud.gov | U.S. Department of Housing and Urban Development Grants Management Center, 3rd Floor, 550 12th Street, SW., Washington, DC 20024.
Resident Opportunities and Self-Sufficiency (ROSS) Service Coordinators | James D. Reeves | James.D.Reeves@hud.gov | U.S. Department of Housing and Urban Development Grants Management Center, 3rd Floor, 550 12th Street, SW., Washington, DC 20024.
Housing Opportunities for Persons with AIDS (HOPWA) | Benjamin L. Ayers | Benjamin.L.Ayers@hud.gov | U.S. Department of Housing and Urban Development, Room 7212, 451 7th Street, SW., Washington, DC 20410.
Public Housing Family Self-Sufficiency (PHFSS) | James D. Reeves | James.D.Reeves@hud.gov | U.S. Department of Housing and Urban Development Grants Management Center, 3rd Floor, 550 12th Street, SW., Washington, DC 20024.
Self-Help Homeownership Opportunity Program (SHOP) | Louise Thompson | Louise.D.Thompson@hud.gov | U.S. Department of Housing and Urban Development, Room 7162, 451 7th Street, SW., Washington, DC 20410.
Assisted Living Conversion Program | Aretha Williams | Aretha.M.Williams@hud.gov | U.S. Department of Housing and Urban Development, Room 6142, 451 7th Street, SW., Washington, DC 20410.
Section 202 Supportive Housing for the Elderly | Aretha Williams | Aretha.M.Williams@hud.gov | U.S. Department of Housing and Urban Development, Room 6142, 451 7th Street, SW., Washington, DC 20410.
Section 811 Supportive Housing for Persons with Disabilities | Aretha Williams | Aretha.M.Williams@hud.gov | U.S. Department of Housing and Urban Development, Room 6142, 451 7th Street, SW., Washington, DC 20410.
Demonstration Program for Elderly Housing for Intergenerational Families | Aretha Williams | Aretha.M.Williams@hud.gov | U.S. Department of Housing and Urban Development, Room 6142, 451 7th Street, SW., Washington, DC 20410.
Capacity Building Program | Karen Daly | Karen.E.Daly@hud.gov | U.S. Department of Housing and Urban Development, Room 7340, 451 7th Street, SW., Washington, DC 20410.

[FR Doc. E8-19349 Filed 8-20-08; 8:45 am]

BILLING CODE 4210-67-P